DEPARTMENT OF THE INTERIOR

Fish and Wildlife Service

[FWS-R9-HQ-2013-N125; 91100-3740-GRNT 7C]

Meeting Announcements: North American Wetlands Conservation Council; Neotropical Migratory Bird Conservation Advisory Group

AGENCY: Fish and Wildlife Service, Interior.

ACTION: Notice of meetings.

SUMMARY: The North American Wetlands Conservation Council (Council) will meet to select North American Wetlands Conservation Act (NAWCA) grant proposals for recommendation to the Migratory Bird Conservation Commission (Commission). This meeting is open to the public. The Advisory Group for the Neotropical Migratory Bird Conservation Act (NMBCA) grants program (Advisory Group) will also meet. This meeting is also open to the public, and interested persons may present oral or written statements.

DATES: Council: Meeting is July 9, 2013, 2:30-4:30 p.m., and July 10, 2013, 8:30 a.m.-12 p.m. and 1-4:30 p.m. If you are interested in presenting information at this public meeting, contact the Council Coordinator no later than June 24, 2013.

Advisory Group: Meeting is July 9, 2013, 8 a.m.-2 p.m. If you are interested in presenting information at this public meeting, contact the Council Coordinator no later than June 24, 2013.

ADDRESSES: The Council meeting and the Advisory Group meeting will be held at Lord Elgin Hotel, 100 Elgin Street, Ottawa, ON K1P 5K8, Canada.

FOR FURTHER INFORMATION CONTACT: Cyndi Perry, Council Coordinator, by phone at (703) 358-1784; by email at cyndi_perry@fws.gov; or by U.S. mail at U.S. Fish and Wildlife Service, Division of Bird Habitat Conservation, 4401 N. Fairfax Drive, MBSP 4075, Arlington, VA 22203.

SUPPLEMENTARY INFORMATION: In accordance with NAWCA (Pub. L. 101-233, 103 Stat. 1968, December 13, 1989, as amended), the State-private-Federal Council meets to consider wetland acquisition, restoration, enhancement, and management projects for recommendation to, and final funding approval by, the Commission. Project proposal due dates, application instructions, and eligibility requirements are available on the NAWCA Web site at http://www.fws.gov/birdhabitat/Grants/NAWCA. Proposals require a minimum of 50 percent non-Federal matching funds. The Council will consider U.S. standard grant proposals at the meeting. The Commission will consider the Council's recommendations at its meeting tentatively scheduled for September 11, 2013.

The Advisory Group, named by the Secretary of the Interior under NMBCA (Pub. L. 106-247, 114 Stat. 593, July 20, 2000), will hold its meeting to discuss the strategic direction and management of the NMBCA program and provide advice to the Director of the Fish and Wildlife Service. If you are interested in presenting information at either of these public meetings, contact the Council Coordinator no later than the date under DATES.

Dated: May 29, 2013.
George Allen,
Acting Assistant Director, Migratory Birds.

[FR Doc. 2013-13295 Filed 6-4-13; 8:45 am]

BILLING CODE 4310-55-P